DEPARTMENT OF DEFENSE

Department of the Army; Corps of Engineers

Intent To Prepare a Draft Programmatic Environmental Impact Statement for the Near-Term Ecosystem Restoration Plan for the Louisiana Coastal Area

AGENCY: Department of the Army, U.S. Army Corps of Engineers, DoD.

ACTION: Notice of intent.

SUMMARY: The U.S. Army Corps of Engineers, New Orleans District (Corps) intends to refocus and modify the Draft Programmatic Supplemental Environmental Impact Statement (Draft PSEIS) for the Louisiana Coastal Area—Louisiana Comprehensive Coastwide Ecosystem Restoration Feasibility Study (LCA Comprehensive Study) and prepare a Draft Programmatic Environmental Impact Statement (Draft PEIS) for a Near-Term Ecosystem Restoration Plan for the Louisiana Coastal Area. This is a modification of the notice of intent published in the Federal Register (67 FR 169093). The intent of this notice is to describe the rationale for revising the purpose and need for action, the scope of the analysis, and intent to prepare a Draft PEIS for the Near-Term Ecosystem Restoration Plan for the Louisiana Coastal Area.

On April 4, 2002, the Corps announced in the Federal Register (67 FR 169093) its intention to prepare a Draft PSEIS for the LCA Comprehensive Study. The original proposed scope of the Draft PSEIS analysis was threefold: (1) Supplement previous Louisiana coastal restoration NEPA-compliance studies; (2) utilize the “lessons learned” from previous Louisiana coastal wetlands restoration efforts; and (3) determine the feasibility of developing the existing Coast 2050 restoration strategies into projects for the creation of a comprehensive coastwide ecosystem restoration plan. Six public scoping meetings regarding preparation of the Draft PSEIS and the feasibility of comprehensive coastwide ecosystem restoration of coastal Louisiana were held at various locations throughout Louisiana in late April 2002. The scoping report was provided to scoping participants and published on the Coast 2050 Web site (Coast2050.gov) in August 2002.

The President's FY05 Budget, released on February 2, 2004 (http:www.whithouse.gov/omb/budget/fyw005/corps.html), contained specific language that refocuses and advances planning, scientific, and restoration efforts that are already underway:

In 2004, the Corps will work to issue a draft report that identifies the most critical ecological needs and proposes a near-term program of highly cost-effective projects to address them. The report will also highlight the key long-term scientific uncertainties and engineering challenges facing the effort to protect and restore the ecosystem, and propose demonstration projects and studies to help answer these questions. The report will focus on the specific coastal areas that require the most immediate attention and on the best way to sequence the proposed work over the next 10 or so years, as we learn what works best. In 2004, the Corps will begin developing studies of potentially promising, long-term ecosystem restoration concepts, with the objective of determining whether they would provide a cost-effective way to create coastal wetlands. An existing Federal-State Task Force established under 1990 legislation will increase its efforts to build and evaluate highly cost-effective fresh-water and sediment diversion projects. This coordinated approach to restoration combines a commitment to address the highest priority needs with a search for innovative solutions. It also ensures that the coastal Louisiana restoration effort will, in the long-term, be able to adapt and evolve as needed, based on the best available science.

The Corps believes these events and activities have influenced the purpose and need for action and the scope of the analysis of the LCA Comprehensive Study. Hence, the Corps proposes to prepare a Draft PEIS for the Near-Term Ecosystem Restoration Plan for the Louisiana Coastal Area.

DATES: Scoping meetings will be held in May 2004. Written scoping comments will be accepted from the date of this notice until May 20, 2004.

ADDRESSES: Scoping comments regarding the Draft PEIS for the LCA Near-Term Plan may be sent to Dr. William P. Klein, Jr., CEMVN-PM-RS, P.O. Box 60267, New Orleans, LA 70160-0267. Comments may also be made via facsimile (fax) at 504-862-1892. Comments will not be accepted if submitted by e-mail or Internet.

FOR FURTHER INFORMATION CONTACT: Major Jason A. Kirk, Senior Project Manager, CEMVN-PM-Coastal Restoration, P.O. Box 60267, New Orleans, LA 70160-0267, telephone: 504-862-1222; fax: 504-862-1892; and e-mail: Jason.A.Kirk.MAJ@mvn02.usace.army.mil, or Mr. Howard H. Gonzales, Project Manager, CEMVN-PM-Coastal Restoration, P.O. Box 60267, New Orleans, LA 70160-0267, telephone: 504-862-1672; fax 504-862-1892; and e-mail: Howard.H.Gonzales@mvn02.usace.army.mil.

SUPPLEMENTARY INFORMATION: 1. Scoping Process. The Council on Environmental Quality (CEQ) regulations implementing the NEPA process directs federal agencies that have made a decision to prepare an environmental impact statement to engage in a public scoping process. The scoping process is designed to provide an early and open means of determining the scope of issues (problems, needs, and opportunities) to be identified and addressed in the draft environmental impact assessment, which in this case is a Draft PEIS. Scoping is the process used to: (a) Identify the affected public and agency concerns; (b) facilitate an efficient PEIS preparation process; (c) define the issues and alternatives that will be examined in detail in the PEIS; and (d) save time in the overall process by helping to ensure that the draft statements adequately address relevant issues. Scoping is a process, not an event or a meeting. It continues throughout the planning for a PEIS and may involve meetings, telephone conversations, and/or written comments. (Council on Environmental Quality, Memorandum for General Counsel, April 30, 1981).

2. Request for Scoping Comments. In May 2004, the Corps will conduct scoping meetings. Notices will be mailed to the affected and interested public once the dates and locations of the scoping meetings have been established. The Corps invites scoping input in writing, or in person, concerning the following scoping questions: Question #1: What are the critical natural and human ecological needs that should be addressed in the PEIS? For example, critical natural and human ecological needs may include: deltaic processes, sustainability, hurricane and flood protection, protection of human infrastructure, and others. Question #2: What are the significant resources that should be considered in the PEIS for the LCA Near-Term Ecosystem Restoration Plan? For example, significant resources may include: gulf hypoxia, barrier islands, offshore sand resources, water quality, and others.

The Corps also requests comments regarding the following nine LCA Near-Term Plan Identification Criteria. (1) Prevents future land loss where predicted to occur: one of the most fundamental measures of ecosystem degradation in coastal Louisiana has been the conversion of land (mostly emergent vegetated habitat) to open water. Thus, the projection of the future condition of the ecosystem must be based upon the determination of future patterns of land and water. Based on the U.S. Geological Survey open file report 03-334 “Historical and Predicted Coastal Louisiana Land Changes: 1978-2050”, do proposed projects prevent or reduce future land loss or restore areas of past loss where scientists have documented these losses to occur. (2) Sustainability—restores or mimics fundamentally impaired deltaic process: this criterion refers primarily to projects or opportunities to restore or mimic natural connections between the river and the basins (or estuaries) and includes distributary flows, crevasses, and over-bank flow. Activities that mechanically move sediment from river to basins are also viewed as mimicking deltaic processes, especially if nourished by a small diversion. (3) Sustainability—restores endangered or critical ecological structure: this criterion refers to projects or opportunities to restore or maintain geomorphic features that are essential to maintaining the integrity of coastal ecosystems; includes natural features such as barrier islands, distributary ridges, cheniers, and beach and lake rims. (4) Engineering and design complete and construction started within 10 years. (5) Protects vital local, regional, and national community and socioeconomic resources: this criterion would identify the local, regional, and national social, economic, and cultural resources that are affected by the proposed opportunities and/or projects. These existing resources include, but are not limited to, noise, population, esthetics, housing, cultural, leisure opportunities, community cohesion and growth, public facilities and services, employment, business and industry, agriculture, and flood protection. Effects include both beneficial and detrimental impacts to human culture and their economic activities. (6) Public acceptability based on scoping and public meeting comments. (7) Based upon sufficient scientific and engineering understanding of processes. (8) Capitalizes on existing structure, resources, etc.: this criterion would identify the proposed project elements (i.e. freshwater diversions, sediment delivery via pipeline, march creation, etc.) that capitalize on existing infrastructure and resources to achieve the objective of the element. Existing infrastructure may include, but is not limited to, diversion structures that are in place but require modification and/or improvements; diversion structures that are in place and operating but potentially not at full capacity (e.g. Davis Pond Freshwater Diversion Structure). Existing resources may include, but are not limited to, sediment deposition areas that are adjacent to or near proposed march creation elements or shoreline restoration elements; sediment-rich waterways that may be tapped for influence in disconnected and degraded coastal regions. (9) Construction does not preclude other options and/or projects.

Scoping comments will be compiled, analyzed, and utilized in the plan formulation process. A Scoping Report, summarizing the comments, will be made available to all scoping participants and published on the Louisiana Coastal Area Web site (LCA.gov). Scoping comments will be accepted throughout the scoping comment period (see DATES).

3. Public Involvement. Scoping is a critical component of the overall public involvement program. An intensive public involvement program will continue throughout the study to solicit input from affected Federal, State, and local agencies, Indian tribes, and other interested parties.

4. Interagency Coordination. The Department of Interior, U.S. Fish and Wildlife Service (USFWS), will provide a Fish and Wildlife Coordination Act Report. Coordination will be maintained with the USFWS and the NOAA Fisheries regarding threatened and endangered species under their respective jurisdictional responsibilities. Coordination will be maintained with the Natural Resources Conservation Service regarding prime and unique farmlands. The U.S. Department of Agriculture will be consulted regarding the “Swampbuster” provisions of the Food Security Act. Coordination will be maintained with the Advisory Counsel on Historic Preservation and the State Historic Preservation Officer. The Louisiana Department of Natural Resources will be consulted regarding consistency with the Coastal Zone Management Act. The Louisiana Department of Wildlife and Fisheries will be contacted concerning potential impacts to Natural and Scenic Streams.

5. Availability of Draft PEIS. It is anticipated that the Draft PEIS will be available for public review during the summer of 2004. A 45-day review period will be provided so that all interested agencies, groups and individuals will have an opportunity to comment on the Draft PEIS. In addition, public meetings will be held during the review period to receive comments and address questions concerning the Draft PEIS.

Brenda S. Bowen,
Alternate Army Federal Register Liaison Officer.

[FR Doc. 04-7967 Filed 4-7-04; 8:45 am]

BILLING CODE 3710-84-M